DEPARTMENT OF COMMERCE

National Oceanic and Atmospheric Administration

[RTID 0648-XE982]

Pacific Fishery Management Council; Public Meetings; Correction

AGENCY: National Marine Fisheries Service (NMFS), National Oceanic and Atmospheric Administration (NOAA), Commerce.

ACTION: Notice of public meetings; correction.

SUMMARY: The Pacific Fishery Management Council (Pacific Council) and its advisory bodies will meet Wednesday, June 11, 2025, through Monday, June 16, 2025, in Rohnert Park, California and via webinar. The document listed on the agenda, under the heading, Schedule of Ancillary Meetings, for Day 1, Wednesday, June 11, 2025, that the Scientific and Statistical Committee Groundfish Subcommittee, 10 a.m., are meeting, but this meeting has been cancelled. The agenda for the meetings has removed this topic and are corrected as set out in this document.

DATES: The Pacific Council meeting will begin on Friday, June 13, 2025, at 9 a.m. Pacific Time (PT), reconvening at 8 a.m. on Saturday, June 14 through Monday, June 16, 2025. All meetings are open to the public, except for a Closed Session held from 8 a.m. to 9 a.m., Friday, June 13, to address litigation and personnel matters. The Pacific Council will meet as late as necessary each day to complete its scheduled business. Advisory Body meetings begin on Wednesday, June 11, 2025, as outlined in the schedule of ancillary meetings below.

ADDRESSES: Meetings of the Pacific Council and its advisory entities will be held at the DoubleTree by Hilton Sonoma—Wine Country, One Doubletree Drive, Rohnert Park, CA; telephone: (707)-584-5466. Specific meeting information, including directions on joining the meeting, connecting to the live stream broadcast, and system requirements will be provided in the meeting announcement on the Pacific Council's website (see www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The June 11-16, 2025, meeting of the Pacific Council will be streamed live on the internet. The broadcasts begin initially at 9 a.m. PT Friday, June 13, and 8 a.m. Saturday, June 14, through Monday, June 16, 2025. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org). The Pacific Council meeting will be live streamed with the opportunity to provide public comment remotely. The following groups will meet in person in Rohnert Park: Budget Committee, Enforcement Consultants, Groundfish Advisory Subpanel, Groundfish Management Team, Highly Migratory Species Advisory Subpanel, Highly Migratory Species Management Team, Legislative Committee, and the Scientific and Statistical Committee.

The following items are on the Pacific Council agenda, but not necessarily in this order. Agenda items noted as “Final Action” refer to actions requiring the Pacific Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance June 2025 briefing materials and posted on the Pacific Council website at www.pcouncil.org no later than Friday, May 23, 2025.

A. Call to Order

1. Opening Remarks

2. Roll Call

3. Agenda

4. Executive Director's Report

B. Open Comment Period

1. Comments on Non-Agenda Items

C. Administrative

1. Council Coordination Committee Meeting Update

2. Legislative Matters

3. Fiscal Matters

4. Approve Council Meeting Records

5. Membership Appointments and Council Operating Procedures

6. Future Council Meeting Agenda and Workload Planning

D. Cross Fishery Management Plan

1. Presidential Executive Orders and Administration Updates

2. Council Response to Executive Orders and Administration Updates

3. Research and Data Needs—Final Action

E. Groundfish

1. National Marine Fisheries Service Report

2. Limited Entry Fixed Gear Actions: Gear Endorsements, Cost Recovery, and Other Administrative Changes—Final Action

3. Inseason Management—Final Action

4. Intersector Allocation Review—Final Action

5. Phase 2 Stock Definitions—Final Action

6. Harvest Specifications Flexibility—Scoping

7. 2027-28 Harvest Specifications and Management Measures Planning

F. Highly Migratory Species

1. National Marine Fisheries Service Report

2. International Management Activities

3. Exempted Fishing Permits—Final Action

4. Highly Migratory Species Roadmap Development

G. Habitat Issues

1. Current Habitat Issues

Advisory Body Agendas

Advisory body agendas will include discussions of relevant issues that are on the Pacific Council agenda for this meeting and may also include issues that may be relevant to future Pacific Council meetings. Proposed advisory body agendas for this meeting will be available on the Pacific Council website, www.pcouncil.org, no later than the end of the day Friday, May 23, 2025.

SCHEDULE OF ANCILLARY MEETINGS

Day 1—Wednesday, June 11, 2025

Groundfish Advisory Subpanel 8 a.m.

Groundfish Management Team 8 a.m.

Day 2—Thursday, June 12, 2025

Scientific and Statistical Committee 8 a.m.

Groundfish Advisory Subpanel 8 a.m.

Groundfish Management Team 8 a.m.

Highly Migratory Species Advisory Subpanel 8 a.m.

Highly Migratory Species Management Team 8 a.m.

Legislative Committee 10 a.m.

Budget Committee 1 p.m.

Enforcement Consultants 2 p.m.

Day 3—Friday, June 13, 2025

Scientific and Statistical Committee 8 a.m.

Groundfish Advisory Subpanel 8 a.m.

Groundfish Management Team 8 a.m.

Highly Migratory Species Advisory Subpanel 8 a.m.

Highly Migratory Species Management Team 8 a.m.

Enforcement Consultants 8 a.m.

Day 4—Saturday, June 14, 2025

Groundfish Advisory Subpanel 8 a.m.

Groundfish Management Team 8 a.m.

Enforcement Consultants As Necessary

Day 5—Sunday, June 15, 2025

Groundfish Advisory Subpanel 8 a.m.

Groundfish Management Team 8 a.m.

Enforcement Consultants Online

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) as soon as possible.

(Authority: 16 U.S.C. 1801 et seq.)

Dated: June 6, 2025.
Rey Israel Marquez,
Acting Deputy Director, Office of Sustainable Fisheries, National Marine Fisheries Service.

[FR Doc. 2025-10555 Filed 6-10-25; 8:45 am]

BILLING CODE 3510-22-P